DEPARTMENT OF THE INTERIOR

Bureau of Land Management

[ES-030-1430-BJ] ES-051869, Group 28, Missouri

Notice of Filing of Plat of Survey; Missouri

The Bureau of Land Management (BLM) will officially file the plat of the survey of a portion of the Wappapello Lake acquisition boundary, Township 28 North, Range 6 East, Fifth Principal Meridian, Missouri, accepted on June 12, 2003, in the Eastern States Office, Springfield, Virginia,30 calendar days from the date of publication in the Federal Register

The survey was requested by the U.S. Army Corps of Engineers.

All inquiries or protests concerning the technical aspects of the survey must be submitted in writing to the Chief Cadastral Surveyor, Eastern States, Bureau of Land Management, 7450 Boston Boulevard, Springfield, Virginia 22153, prior to the date of the official filing.

We will place a copy of the plat we described in the open files. Copies of the plat will be made available upon request and prepayment of the appropriate fee.

Dated: June 12, 2003.
Stephen D. Douglas,
Chief Cadastral Surveyor.

[FR Doc. 03-15451 Filed 6-18-03; 8:45 am]

BILLING CODE 4310-GJ-P